DEPARTMENT OF THE INTERIOR

Fish and Wildlife Service

Letters of Authorization To Take Marine Mammals

AGENCY: U.S. Fish and Wildlife Service, Interior.

ACTION: Notice of issuance of Letters of Authorization to take marine mammals incidental to oil and gas industry activities.

SUMMARY: In accordance with section 101(a)(5)(A) of the Marine Mammal Protection Act of 1972, as amended, and the U.S. Fish and Wildlife Service implementing regulations [50 CFR 18.27(f)(3)], notice is hereby given that Letters of Authorization to take polar bears and Pacific walrus incidental to oil and gas industry exploration, development, and production activities have been issued to the following companies:

Company | Activity | Date issued
BP Exploration (Prudhoe Bay Unit) | Production | April 21, 2000.
BP Exploration (Kuparuk Unit) | Production | April 21, 2000.
Western Geophysical (Anadarko) | Exploration | April 21, 2000.
BP Exploration (Northstar) | Development | May 3, 2000.
ARCO Alaska, Inc. (Meltwater North) | Exploration | May 3, 2000.
ARCO Alaska, Inc. (Spark # 1) | Exploration | May 3, 2000.
ARCO Alaska, Inc. (Rendezvous A&B) | Exploration | May 3, 2000.
ARCO Alaska, Inc. (Lookout A) | Exploration | May 3, 2000.
ARCO Alaska, Inc. (Moose's Tooth A&C) | Exploration | May 3, 2000.
ARCO Alaska, Inc. (Clover A&B) | Exploration | May 3, 2000.
ARCO Alaska, Inc. (Cairn) | Exploration | May 3, 2000.
Western Geophysical (ARCO) | Exploration | May 3, 2000.
Western Geophysical (BP Exploration) | Exploration | May 3, 2000.
Kuukpik/Fairweather Geophysical | Exploration | May 3, 2000.
BP Exploration (Point Thomson) | Exploration | May 3, 2000.

FOR FURTHER INFORMATION CONTACT: Mr. John W. Bridges at the U.S. Fish and Wildlife Service, Marine Mammals Management Office, 1011 East Tudor Road, Anchorage, Alaska 99503, (300) 362-5148 or (907) 786-3810.

SUPPLEMENTARY INFORMATION:

Letters of Authorization were issued in accordance with U.S. Fish and Wildlife Service Federal Rules and Regulations “Marine Mammals; Incidental Take During Specified Activities (65 FR 16828; March 30, 2000).”

Dated: May 8, 2000.
Mike Boylan,
Acting Deputy Regional Director.

[FR Doc. 00-12527 Filed 5-17-00; 8:45 am]

BILLING CODE 4310-55-M